DEPARTMENT OF THE INTERIOR

Fish and Wildlife Service

Endangered and Threatened Wildlife and Plants; Status of the Rio Grande Cutthroat Trout

AGENCY: Fish and Wildlife Service, Interior.

ACTION: Notice of intent to initiate a status review.

SUMMARY: We, the U.S. Fish and Wildlife Service (Service) announce our intent to initiate a candidate status review for the Rio Grande cutthroat trout (Oncorhynchus clarki virginalis) to determine if candidate status is warranted. The Endangered Species Act of 1973, as amended (16 U.S.C. 1531 et seq.) (Act), requires that we identify species of wildlife and plants that are endangered or threatened, based on the best available scientific and commercial information. Through the Federal rulemaking process, we add these species to the List of Endangered and Threatened Wildlife at 50 CFR 17.11 or the List of Endangered or Threatened Plants at 50 CFR 17.12. As part of this program, we maintain a list of species that we regard as candidates for listing. A candidate is one for which we have on file sufficient information on biological vulnerability and threats to support a proposal to list as endangered or threatened but for which preparation and publication of a proposal is precluded by higher-priority listing actions. On or before June 4, 2002, we will make a determination concerning the results of this review for the Rio Grande cutthroat trout and, shortly thereafter, we will publish this determination in the Federal Register.

DATES: Comments and information from all interested parties for our use in the status review and preparing a revised finding will be accepted until February 26, 2002.

ADDRESSES: Questions and comments concerning this status review should be sent to Joy Nicholopoulos, Field Supervisor, U.S. Fish and Wildlife Service, 2105 Osuna Rd. NE, Albuquerque, NM 87113. Comments can be provided via e-mail to R2FWE_AL@fws.gov. Comments and materials received will be available on request for public inspection, by appointment, during normal business hours at the above address.

FOR FURTHER INFORMATION CONTACT: Anna Maria Muñoz, Fish and Wildlife Biologist (see ADDRESSES section), telephone (505) 346-2525.

SUPPLEMENTARY INFORMATION:

Background

On February 25, 1998, we received a petition from Kieran Suckling, of the Southwest Center for Biological Diversity requesting that the Service add the Rio Grande cutthroat trout (Onchorynchus clarki virginalis) to the list of threatened and endangered species. The petition addressed the range-wide distribution of the Rio Grande cutthroat trout that included populations in Colorado and New Mexico.

The Rio Grande cutthroat trout is the southernmost of 14 subspecies of cutthroat trout (Behnke 1967, 1972, 1992; Sublette et al. 1990). There are two phenotypic forms of the subspecies, one in the Rio Grande and one in the Pecos River (Behnke 1992). The species derives its name from the distinctive red or orange slashes beneath the lower jaw. The general body coloration is yellowish green to grayish brown; the abdomen is creamy white. Variably-sized black spots cover the upper body and are more numerous posteriorly; dorsal, adipose, and caudal fins carry black spots (Koster 1957, Behnke 1992, Sublette et al. 1990). Although the historical distribution of the Rio Grande cutthroat trout is not known with certainty, it is likely that the subspecies occurred not only in all waters in the upper Rio Grande, Pecos, and Canadian River Basins that are currently capable of supporting trout, but also in other stream reaches within these watersheds that formerly provided the habitat requisites of coldwater species.

Section 4(b)(3)(B) of the Act requires that we make a finding on whether a petition to list, delist or reclassify a species presents substantial scientific or commercial information indicating that the petitioned action is—(a) not warranted; (b) warranted; or (c) warranted but precluded from immediate proposal by other pending listing proposals of higher priority. We subsequently published a notice of a 90-day finding in the Federal Register (63 FR 49062) on September 14, 1998. In the 90-day finding we concluded that the petition did not present substantial information indicating that listing of the Rio Grande cutthroat trout may be warranted.

Our finding recognized that livestock grazing, road construction, and logging were primary factors in the constriction of the Rio Grande cutthroat trout's historical range, and continue to impact streams and riparian habitats where measures to limit those impacts are lacking. The Service concluded that the management objectives of both States, set forth in respective management plans formulated for the Rio Grande cutthroat, would provide for the continued management, conservation, and stability of this subspecies and its habitats.

On June 9, 1999, a complaint was filed by the Southwest Center for Biological Diversity challenging the September 14, 1998, 90-day petition finding as violating the Act and the Administrative Procedures Act. Recently, while the litigation was pending, we received some information (particularly related to the presence of whirling disease in hatchery fish in the wild) that led us to believe that further review of the status of the species was warranted.

On November 8, 2001, a settlement agreement executed by both parties (the Service and the Center for Biological Diversity) was filed with the court. The settlement stipulates that we will initiate a candidate status review for the Rio Grande cutthroat trout. The settlement also stipulates that on or before June 4, 2002, we will make a determination concerning the results of this review and, shortly thereafter, we will publish our determination in the Federal Register. The agreement also states that we will not vacate our previous determination in the interim.

Request for Information

Our determination of candidate status for the Rio Grande cutthroat trout shall be based upon the best available scientific and commercial data, as required under section 4(b)(1)(A) of the Act. We request you submit any further information on the Rio Grande cutthroat trout. We are particularly interested in any information concerning the following:

(1) Current population numbers and trends for each of the populations of the Rio Grande cutthroat trout;

(2) Whether there are documented increases in those populations or their habitat;

(3) The status of remaining habitat areas;

(4) The current threats and future threats to those populations and remaining habitat areas; and

(5) Other regulatory mechanisms that address those threats; and the success of those mechanisms to date.

References Cited

A complete list of all references cited is available upon request from the New Mexico Ecological Services Field Office (see ADDRESSES section).

Author

The primary author of this document is New Mexico Ecological Services Field Office staff (see ADDRESSES section).

Authority: The authority for this action is section 4(b)(1)(A) of the Endangered Species Act, 16 U.S.C. 1533.

Dated: November 23, 2001.
Nancy Kaufman,
Regional Director.

[FR Doc. 01-31911 Filed 12-27-01; 8:45 am]

BILLING CODE 4310-55-M